DEPARTMENT OF TRANSPORTATION

Federal Aviation Administration

14 CFR Part 39

[Docket No. FAA-2012-0995; Directorate Identifier 2012-NM-056-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-300 series airplanes and Model A340-200 and -300 series airplanes. This proposed AD was prompted by reports that, during a flight test, several spoiler servo-controls (SSCs) did not remain locked in the retracted position (hydraulic locking function) after manual depressurization of the corresponding hydraulic circuit. Loss of that locking function—which is ensured by a blocking valve—was caused by an internal leak from a sheared seal on the blocking valve. This proposed AD would require inspecting to determine if certain SSCs are installed, performing an operational test of any affected SSC, and replacing if necessary. We are proposing this AD to prevent loss of the hydraulic locking function during take-off and go-around phases, which, in combination with malfunction of one engine, could result in reduced controllability of the airplane.

DATES: We must receive comments on this proposed AD by November 5, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0995; Directorate Identifier 2012-NM-056-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0009, dated January 13, 2012 (referred to after this as “the MCAI”), to correct an unsafe condition for the specified products. The MCAI states:

Two operators have reported that several spoilers did not remain locked in the retracted position (lifted up without order) after manual depressurization of the corresponding hydraulic circuit during flight test.

Subsequent checks on ground confirmed that, for each affected spoiler surface, the spoiler was fitted with one MZ-type Spoiler Servo Control (SSC) (Part Number (P/N) MZ4339390-12 or P/N MZ4306000-12).

The results of the investigations on the affected SSCs, done by the supplier, revealed that the loss of the hydraulic locking function—which is ensured by a blocking valve—was due to an internal leakage caused by a sheared seal. This seal is installed at the left end of the blocking valve.

During the on-wing modification of the maintenance cover, blocking valve movement may have damaged the seal on the outer diameter of the blocking valve assembly, causing the loss of the hydraulic locking function.

This condition, if not detected and corrected, if occurring during take-off and go-around phases in combination with one engine inoperative, could jeopardize the aeroplane safe flight.

For the reasons described above, this [EASA] AD requires the identification of the installed SSCs, to perform an operational test of the hydraulic locking function of the affected SSCs and to accomplish the applicable corrective actions if any discrepancy is detected during the operational test. This [EASA] AD also requires reporting operational test results to Airbus.

You may obtain further information by examining the MCAI in the AD docket.

Other Related Rulemaking

On August 26, 2009, the FAA issued AD 2009-18-20, Amendment 39-16017 (74 FR 46313, September 9, 2009), applicable to certain Airbus Model A330-300, A340-200, and A340-300 series airplanes. That AD requires identifying the part number of spoiler servo-controls installed on the airplane at all positions to determine the number of affected hydraulic circuits, and modifying affected spoiler servo-controls. The actions required by that AD are intended to prevent loss of the three hydraulic systems, which could result in reduced controllability of the airplane.

Relevant Service Information

Airbus has issued All Operators Telex (AOT) A330-27A3185 and AOT A340-27A4181, both dated January 4, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

Unlike the procedures recommended in Airbus AOTs A330-27A3185 and A340-27A4181, both dated January 4, 2012, this proposed AD would not permit further flight after a faulty SSC is detected on the green or yellow hydraulic line. Instead, this proposed AD would require replacing the SSC with a new or serviceable SSC before further flight. We find that, to achieve an adequate level of safety for the affected fleet, damaged SSCs must be replaced before further flight.

Although the MCAI mandates performing the operational test within 90 days after the effective date of the AD, we have determined that the operational test should be performed within 90 days after identification of the part.

These differences have been coordinated with EASA.

Costs of Compliance

Based on the service information, we estimate that this proposed AD would affect about 61 products of U.S. registry. We also estimate that it would take up to 7 work-hours per product to comply with the basic requirements of this proposed AD. The average labor rate is $85 per work-hour. Based on these figures, we estimate the cost of the proposed AD on U.S. operators to be $36,295, or $595 per product.

In addition, we estimate that any necessary follow-on actions would take about 36 work-hours and require parts costing $34,928, for a cost of $37,988 per affected SSC. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0995; Directorate Identifier 2012-NM-056-AD.

(a) Comments Due Date

We must receive comments by November 5, 2012.

(b) Affected ADs

None.

(c) Applicability

This AD applies to all Airbus Model A330-301, -302, -303, -321, -322, -323, -341, -342, and -343 airplanes; and Model A340-211, -212, -213, -311, -312, and -313 airplanes; certificated in any category; all manufacturer serial numbers.

(d) Subject

Air Transport Association (ATA) of America Code 27: Flight controls.

(e) Reason

This AD was prompted by reports that, during flight test, several spoiler servo-controls (SSCs) did not remain locked in the retracted position (hydraulic locking function) after manual depressurization of the corresponding hydraulic circuit. Loss of that locking function—which is ensured by a blocking valve—was caused by an internal leak from a sheared seal on the blocking valve. We are issuing this AD to prevent loss of the hydraulic locking function during take-off and go-around phases, which, in combination with malfunction of one engine, could result in reduced controllability of the airplane.

(f) Compliance

You are responsible for having the actions required by this AD performed within the compliance times specified, unless the actions have already been done.

(g) Actions

Within 90 days after the effective date of this AD: Inspect to determine the part number (P/N) of all SSCs installed, in accordance with Airbus All Operators Telex (AOT) A330-27A3185 (for Model A330-300 series airplanes) or A340-27A4181 (for Model A340-200 and -300 series airplanes), both dated January 4, 2012. A review of airplane maintenance records is acceptable in lieu of the inspection to identify the part number of the SSC installed, provided that part number can be conclusively determined from that review.

(1) For any SSC having P/N MZ4339390-12 or P/N MZ4306000-12 (MZ-type): Within 90 days after identification of the part, perform an operational test of the hydraulic locking function at each position fitted with an MZ-type SSC, in accordance with the Accomplishment Instructions of Airbus AOT A330-27A3185 (for Model A330-300 series airplanes) or A340-27A4181 (for Model A340-200 and -300 series airplanes), both dated January 4, 2012.

(2) If any discrepancy is detected during the operational test specified in paragraph (g)(1) of this AD, or if the test fails, before further flight, replace the affected SSC with a new or serviceable SSC, in accordance with Airbus AOT A330-27A3185 (for Model A330-300 series airplanes) or A340-27A4181 (for Model A340-200 and -300 series airplanes), both dated January 4, 2012.

(h) Reporting to Airbus

Submit a report of the findings of the operational test required by paragraph (g)(1) of this AD (both positive and negative) to Airbus, Customer Services, Engineering and Technical Support, 1 Rond Point Maurice Bellonte, 31707 Blagnac Cedex France, Attn: Daniel Lopez-Fernandez, SEEL6; fax: (+33) 5 61 93 04 52; email: daniel.lopez-fernandez@airbus.com; at the applicable time specified in paragraph (h)(1) or (h)(2) of this AD.

(1) If the test was done on or after the effective date of this AD: Submit the report within 30 days after the test.

(2) If the test was done before the effective date of this AD: Submit the report within 30 days after the effective date of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Related Information

(1) Refer to MCAI European Aviation Safety Agency (EASA) Airworthiness Directive 2012-0009, dated January 13, 2012, and the service information specified in paragraph (j)(1)(i) or (j)(1)(ii) of this AD, for related information.

(i) Airbus AOT A330-27A3185, dated January 4, 2012.

(ii) Airbus AOT A340-27A4181, dated January 4, 2012.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued in Renton, Washington, on September 11, 2012.
Ali Bahrami,
Manager, Transport Airplane Directorate, Aircraft Certification Service.

[FR Doc. 2012-23217 Filed 9-19-12; 8:45 am]

BILLING CODE 4910-13-P